DEPARTMENT OF HEALTH AND HUMAN SERVICES

Centers for Disease Control and Prevention

Opportunity for Businesses To Partner With NIOSH To Incorporate Electronic Sensors Into Respirator Filter Cartridges

Authority: Public Law 91-596.

AGENCY: The National Institute for Occupational Safety and Health (NIOSH), Centers for Disease Control and Prevention (CDC).

ACTION: Notice of opportunity for businesses to partner with NIOSH to incorporate Electronic Sensors into Respirator Filter Cartridges.

SUMMARY: The National Personal Protective Technology Laboratory (NPPTL), NIOSH, currently is conducting ongoing research in electronic chemical sensor development for respirator end of service life/residual service life. NPPTL is seeking to partner with businesses capable of incorporating these sensors into respirator filter cartridges. A working relationship will consist of installing sensors in cartridges during their manufacturing process. The cartridges will be used to investigate sensor performance during test loading of the cartridges with industrial solvent vapors.

DATES: Submit letters of interest within 30 days after the date of publication of this notice in the Federal Register.

ADDRESSES: Interested manufacturers should submit a letter of interest with information about their capabilities to: http://www.esli@cdc.gov.

SUPPLEMENTARY INFORMATION: NPPTL, NIOSH, is seeking to partner with businesses capable of incorporating electronic chemical sensors into respirator filter cartridges. Interested manufacturers who would like to be considered for participation need to have access to manufacturing capabilities to produce air purifying respirator cartridges.

The project currently is in the system development phase. A chemical sensor array has been defined and electronics to support it have been developed. Partners could participate in the current project as well as future projects involving sensors.

Candidate companies will be evaluated based on their capability to achieve the identified goals. Candidates selected could be requested to enter into a Cooperative Research and Development Agreement (CRADA). This announcement does not obligate NIOSH to enter into an agreement with any respondents. NIOSH reserves the right to establish a partnership based on engineering analysis and capabilities found by way of this announcement or other searches, if determined to be in the best interest of the government.

FOR FURTHER INFORMATION CONTACT: http://www.esli@cdc.gov.

Dated: August 2, 2004.
James D. Seligman,
Associate Director for Program Services, Centers for Disease Control and Prevention.

[FR Doc. 04-18219 Filed 8-9-04; 8:45 am]

BILLING CODE 4163-19-P